SMALL BUSINESS ADMINISTRATION

[Declaration of Disaster #3409]

Commonwealth of Virginia, (Amendment # 2); Disaster Loan Areas

In accordance with a notice received from the Federal Emergency Management Agency, dated June 17, 2002, the above numbered declaration is hereby amended to include Halifax, Pittsylvania, Prince George, Scott and Wise Counties and the Independent City of Emporia in the Commonwealth of Virginia as disaster areas due to damages caused by severe storms, tornadoes and flooding occurring on April 28, 2002 through May 3, 2002.

In addition, applications for economic injury loans from small businesses located in the following contiguous counties may be filed until the specified date at the previously designated location: Charles City, Chesterfield, Henry, Lee, Mecklenburg, Surry and Washington Counties in Virginia; Harlan and Letcher Counties in Kentucky; Caswell, Granville, Person and Rockingham County in North Carolina; and Hancock, Hawkins and Sullivan Counties in Tennessee.

The economic injury number assigned to Tennessee is 9Q1800.

All other information remains the same, i.e., the deadline for filing applications for physical damage is July 4, 2002, and for economic injury the deadline is February 5, 2003.

(Catalog of Federal Domestic Assistance Program Nos. 59002 and 59008)
Dated: June 19, 2002.
Herbert L. Mitchell,
Associate Administrator for Disaster Assistance.

[FR Doc. 02-16053 Filed 6-25-02; 8:45 am]

BILLING CODE 8025-01-P